DEPARTMENT OF EDUCATION

Membership of the Performance Review Board

AGENCY: Office of Finance and Operations, Department of Education.

ACTION: Notice.

SUMMARY: The Secretary publishes a list of persons who may be named to serve on the Performance Review Board that oversees the evaluation of performance appraisals for Senior Executive Service members of the Department.

DATES: October 9, 2020.

FOR FURTHER INFORMATION CONTACT: Jennifer Geldhof, Director, Executive Resources Division, Office of Human Resources, Office of Finance and Operations, U.S. Department of Education, 400 Maryland Avenue SW, Room 210-00, LBJ, Washington, DC 20202-4573. Telephone: (202) 580-9669. Email: Jennifer.Geldhof@ed.gov.

If you use a telecommunications device for the deaf (TDD), or text telephone (TTY), you may call the Federal Relay Service (FRS) at 1-800-877-8339.

SUPPLEMENTARY INFORMATION:

Membership

Under the Civil Service Reform Act of 1978, Public Law 95-454 (5 U.S.C. 4314(c)(4)), we must publish in the Federal Register a list of persons who may be named to serve on the Performance Review Board that oversees the evaluation of performance appraisals for Senior Executive Service members of the Department. The following persons may be named to serve on the Performance Review Board:

ASHLEY, CAROL ROSE

BAILEY, NATHAN ADAM

BATTLE, SANDRA G.

BENJAMIN, NATHANIEL

BRINTON, JEDEDIAH GRANT

BYRD-JOHNSON, LINDA E.

CANTRELL, DAVID

CARR, PEGGY G.

CARTER, DENISE L.

CHANG, LISA E.

CHAPMAN, CHRISTOPHER D.

CORDES, WILLIAM D.

CUMMINGS, ANTHONY

CURRELL, DANIEL GLEN

DOONE, ALISON

EITEL, ROBERT S.

ELIADIS, PAMELA D.

ELLIS, KATHRYN A.

FORBES, JORDAN REBEKKAH

FORTELNY, GREGORY P.

GARCIA, DANIELA ROSA

GOODRIDGE-KEILLER, MARCEL

GRAY, JASON

HAIRFIELD, JAMES M.

HARRIS, ANTONIA T.

HERNANDEZ, STEVEN G.

HILL, ELIZABETH CAROL MAI

JACKSON, CANDICE

JONES, DIANE AUER

JUENGST, PHILLIP RYAN

KARVONIDES, MARIA

KEAN, LARRY G.

KIM, ANN H.

KOEPPEL, DENNIS P.

LOPEZ, LUIS RONALDO

LUCAS, RICHARD J.

MAHAFFIE, LYNN B.

MALAWER, HILARY EVE

MAUNEY, LOUIS A.

MCCAGHREN, CHRISTOPHER JA

MCDONALD, WALTER C.

MCELWAIN, LORENA OROZCO

MCHUGH, ERIN LYNN

MCLAUGHLIN, MAUREEN A.

MEFFORD, PENNY

MILLER, DANIEL J.

PERKINS, HILLARY M.

RICHEY, KIMBERLY M.

RIDDLE, PAUL N.

RINKUS, CHRISTOPHER

ROSENFELT, PHILIP H.

RUBINSTEIN, REED

RYDER, RUTH E.

SACKS, CASEY KATHERINE

SAFIR, ADAM GEORGE

SANTY, ROSS C. JR.

SANZENBACHER, ANDREW T.

SASSER, TRACEY L.

SCOTT, JANET DANIELS

SIMMONS, LEE DOUGLASS RUS

SIMPSON, DANIEL J.

SMITH, RICHARD L.

ST PIERRE, TRACEY

STANTON, CRAIG A.

TALBERT, KENT D.

THOMPSON, FARNAZ FARKISH

TRACHMAN, WILLIAM EDWARD

VANDERPLOEG, LAURIE

VIANA, AIMEE POLANCO

WASHINGTON, MARK

WILLS, RANDOLPH E.

WOOD, GARY H.

Accessible Format: On request to the program contact person listed under FOR FURTHER INFORMATION CONTACT, individuals with disabilities can obtain this document and a copy of the application package in an accessible format (e.g., braille, large print, audiotape, or compact disc), to the extent reasonably practicable.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Betsy DeVos,
Secretary of Education.

[FR Doc. 2020-22367 Filed 10-8-20; 8:45 am]

BILLING CODE 4000-01-P